DEPARTMENT OF HEALTH AND HUMAN SERVICES

Administration for Children and Families

Submission for Office of Management and Budget (OMB) Review; National Youth in Transition Database (NYTD) Services and Youth Outcomes Survey (OMB #0970-0340)

AGENCY: Children's Bureau, Administration for Children and Families, U.S. Department of Health and Human Services.

ACTION: Request for public comments.

SUMMARY: The Administration for Children and Families (ACF) is requesting a three-year extension of the National Youth in Transition Database (NYTD) Services and Youth Outcomes Survey (OMB#: 0970-0340, expiration date 05/31/2025). There are no changes requested to the form.

DATES: Comments due June 26, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The Foster Care Independence Act of 1999, Public Law 106-169 (42 U.S.C. 1305 et seq.), requires State child welfare agencies to collect and report to ACF data on the characteristics of youth receiving independent living services and information regarding their outcomes. The regulation implementing the National Youth in Transition Database, listed in 45 CFR 1356.80, contains standard data collection and reporting requirements for States to meet the law's requirements. Additionally, the Family First Prevention Services Act of 2017, Public Law 115-123 (42 U.S.C. 677(e)) further outlines the expectation of the collection and reporting of data and outcomes regarding youth who are in receipt of independent living services. ACF will continue to use the information collected under the regulation to track independent living services, assess the collective outcomes of youth, and potentially to evaluate State performance with regard to those outcomes consistent with the law's mandate.

Respondents: State agencies that administer the Chafee Foster Care Program for Successful Transition to Adulthood (Chafee program) report on the young people who are served by the program and who complete the youth outcomes survey.

Annual Burden Estimates for 2025
Instrument | Total number of respondents | Number of responses per respondent (annually) | Average burden hours per response | Annualized burden hours
State Data File | 52 | 2 | 1,317 | 136,968
Youth Outcomes Survey | 9,300 | 1 | 0.5 | 4,650

Estimated Total Annual Burden Hours: 141,618.

Authority: NYTD is authorized by Public Law 106-169, enacted December 14, 1999. This public law establishes the John H. Chafee Foster Care Independence Program (CFCIP) now known as Chafee Foster Care Program for Successful Transition to Adulthood (Chafee program) at section 477 of the Social Security Act (the Act). NYTD data are collected pursuant to 45 CFR 1356.80.

Mary C. Jones,
ACF/OPRE Certifying Officer.

[FR Doc. 2025-09367 Filed 5-23-25; 8:45 am]

BILLING CODE 4184-01-P